ENVIRONMENTAL PROTECTION AGENCY

[FRL-9184-5]

Office of Research and Development; Ambient Air Monitoring Reference and Equivalent Methods: Designation of One New Equivalent Method

AGENCY: Environmental Protection Agency.

ACTION: Notice of the designation of one new equivalent method for monitoring ambient air quality.

SUMMARY: Notice is hereby given that the Environmental Protection Agency (EPA) has designated, in accordance with 40 CFR part 53, one new equivalent method for measuring concentrations of lead (Pb) in total suspended particulate matter (TSP) in the ambient air.

FOR FURTHER INFORMATION CONTACT: Surender Kaushik, Human Exposure and Atmospheric Sciences Division (MD-D205-03), National Exposure Research Laboratory, U.S. EPA, Research Triangle Park, North Carolina 27711. Phone: (919) 541-5691, e-mail: Kaushik.Surender@epa.gov.

SUPPLEMENTARY INFORMATION: In accordance with regulations at 40 CFR part 53, the EPA evaluates various methods for monitoring the concentrations of those ambient air pollutants for which EPA has established National Ambient Air Quality Standards (NAAQSs) as set forth in 40 CFR part 50. Monitoring methods that are determined to meet specific requirements for adequacy are designated by the EPA as either reference methods or equivalent methods (as applicable), thereby permitting their use under 40 CFR part 58 by States and other agencies for determining compliance with the NAAQSs.

The EPA hereby announces the designation of one new equivalent method for measuring Pb in TSP in the ambient air. This designation is made under the provisions of 40 CFR part 53, as amended on November 12, 2008 (73 FR 67057-67059).

The new equivalent method for Pb is a manual method that uses the sampling procedure specified in the Reference Method for the Determination of Suspended Particulate Matter in the Atmosphere (High-Volume Method), 40 CFR part 50, appendix B, with an alternative extraction and analytical procedure. The method is identified as follows:

EQL-0710-192, “Heated Nitric Acid Hot Block Digestion and ICP/MS Analysis for Lead (Pb) on TSP High-Volume Filters.”

In this method, total suspended particulate matter (TSP) is collected on glass fiber filters according to 40 CFR Appendix B to part 50, EPA Reference Method for the Determination of Suspended Particulate Matter in the Atmosphere (High-Volume Method), extracted with a solution of nitric acid, heated on a hot block to 95°C for one hour, and brought to a final volume of 50 mL. The lead content of the sample extract is analyzed by Inductively Coupled Plasma-Mass Spectrometry (ICP-MS) based on EPA Method 200.8 and SW-846 Method 6020A.

The application for an equivalent method determination for this method was submitted by the Region 9 Laboratory, U.S. Environmental Protection Agency, 1337 South 46th Street, Bldg 201, Richmond, CA 94804 and was received by the Office of Research and Development on March 30, 2010.

The analytical procedure of this method has been tested in accordance with the applicable test procedures specified in 40 CFR part 53, as amended on November 12, 2008. After reviewing the results of those tests and other information submitted in the application, EPA has determined, in accordance with Part 53, that this method should be designated as an equivalent method for lead. The information in the application will be kept on file, either at EPA's National Exposure Research Laboratory, Research Triangle Park, North Carolina 27711 or in an approved archive storage facility, and will be available for inspection (with advance notice) to the extent consistent with 40 CFR part 2 (EPA's regulations implementing the Freedom of Information Act).

As a designated equivalent method, this method is acceptable for use by states and other air monitoring agencies under the requirements of 40 CFR part 58, Ambient Air Quality Surveillance. For such purposes, the method must be used in strict accordance with the complete operating procedure (SOP) associated with the method and subject to any specifications and limitations specified in the procedure.

Use of the method should also be in general accordance with the guidance and recommendations of applicable sections of the “Quality Assurance Handbook for Air Pollution Measurement Systems, Volume I,” EPA/600/R-94/038a and “Quality Assurance Handbook for Air Pollution Measurement Systems, Volume II, Ambient Air Quality Monitoring Program” EPA-454/B-08-003, December, 2008. Provisions concerning modification of such methods by users are specified under Section 2.8 (Modifications of Methods by Users) of appendix C to 40 CFR part 58.

Consistent or repeated noncompliance with the method procedure/SOP should be reported to: Director, Human Exposure and Atmospheric Sciences Division (MD-E205-01), National Exposure Research Laboratory, U.S. Environmental Protection Agency, Research Triangle Park, North Carolina 27711.

Designation of this new equivalent method is intended to assist the States in establishing and operating their air quality surveillance systems under 40 CFR Part 58. Questions concerning the technical aspects of the method should be directed to the applicant.

Dated: July 26, 2010.
Jewel F. Morris,
Acting Director, National Exposure Research Laboratory.

[FR Doc. 2010-19055 Filed 8-2-10; 8:45 am]

BILLING CODE 6560-50-P